DEPARTMENT OF HEALTH AND HUMAN SERVICES

National Institutes of Health

Center For Scientific Review; Amended Notice of Meeting

Notice is hereby given of a change in the meeting of the Integrative Physiology of Obesity and Diabetes Study Section, October 4, 2007, 8 a.m. to October 5, 2007, 5 p.m., Embassy Suites DC Convention Center, 900 10th Street, NW., Washington, DC 20001 which was published in the Federal Register on September 10, 2007, 72 FR 51649-51651.

The meeting will be held one day only October 4, 2007. The meeting time and location remain the same. The meeting is closed to the public.

Dated: September 12, 2007.
Jennifer Spaeth,
Director, Office of Federal Advisory Committee Policy.

[FR Doc. 07-4627 Filed 9-18-07; 8:45 am]

BILLING CODE 4140-01-M